FEDERAL COMMUNICATIONS COMMISSION

47 CFR Part 54

[WC Docket No. 13-184; Report No. 3010]

Petitions for Reconsideration of Action in Rulemaking Proceeding

AGENCY: Federal Communications Commission.

ACTION: Petition for reconsideration.

SUMMARY: In this document, Petitions for Reconsideration (Petitions) have been filed in the Commission's Rulemaking proceeding by Julia Benincosa Legg, on behalf of West Virginia Department of Education; David L. Haga, on behalf of Verizon; Gary Rawson, on behalf of State E-rate Coordinators' Alliance (SECA); Kevin Rupy, on behalf of United States Telecom Association; Michael R. Romano, on behalf of NTCA/Utah Rural Telecom Association; and Dennis Sampson, on behalf of Utah Education Network.

DATES: Oppositions to the Petitions must be filed on or before October 22, 2014. Replies to an opposition must be filed on or before November 3, 2014.

ADDRESSES: Federal Communications Commission, 445 12th Street SW., Washington, DC 20554.

FOR FURTHER INFORMATION CONTACT: James Bachtell, Wireline Competition Bureau, (202) 418-2694, email: James.Bachtell@fcc.gov.

SUPPLEMENTARY INFORMATION: This is a summary of Commission's document, Report No. 3010, released September 24, 2014. The full text of Report No. 3010 is available for viewing and copying in Room CY-B402, 445 12th Street SW., Washington, DC or may be purchased from the Commission's copy contractor, Best Copy and Printing, Inc. (BCPI) (1-800-378-3160). The Commission will not send a copy of this document pursuant to the Congressional Review Act, 5 U.S.C. 801(a)(1)(A) because this document does not have an impact on any rules of particular applicability.

Subject: Modernization of the Schools and Libraries “E-Rate” Program, published at 79 FR 49160, August 19, 2014, in WC Docket No. 13-184 and published pursuant to 47 CFR 1.429(e). See also § 1.4(b)(1) of the Commission's rules.

Number of Petitions Filed: 6.

Federal Communications Commission.
Marlene H. Dortch,
Secretary.

[FR Doc. 2014-23803 Filed 10-6-14; 8:45 am]

BILLING CODE 6712-01-P